SECURITIES AND EXCHANGE COMMISSION

[Release Nos. 33-8743; 34-54519; File No. 4-526]

SEC Government-Business Forum on Small Business Capital Formation

AGENCY: Securities and Exchange Commission.

ACTION: Request for public comment in connection with Forum on Small Business Capital Formation.

SUMMARY: The Securities and Exchange Commission is providing for additional public input in connection with its annual Government-Business Forum on Small Business Capital Formation, to be held Friday, September 29, 2006, beginning at 9 a.m. EDT, at its Washington, DC headquarters. The morning sessions of the Forum will be Webcast on the Commission's Web site at www.sec.gov. The public is invited to submit written statements in connection with the Forum.

This year's Forum program will include two roundtable discussions in the morning. The first roundtable will discuss the advantages to smaller public companies of filing interactive data with the SEC. The second roundtable will discuss current issues in capital raising techniques for small business, such as the status of the IPO (initial public offering) market and PIPE (private investment in public equity) offerings.

The Commission expects that the Forum will develop recommendations for government and private action to facilitate small business capital formation. The afternoon sessions of the Forum, which will not be Webcast, will be devoted to breakout sessions to develop recommendations.

More information about the Forum is available at www.sec.gov/info/smallbus/sbforum.shtml.

DATES: Written statements should be received on or before October 15, 2006.

ADDRESSES: Written statements may be submitted by any of the following methods:

Electronic Statements

• Use the Commission's Internet submission form (http://www.sec.gov/info/smallbus/sbforum.shtml); or

• Send an e-mail message to rule-comments@sec.gov. Please include File Number 4-526 on the subject line; or

Paper Statements

• Send paper statements in triplicate to Nancy M. Morris, Secretary, U.S. Securities and Exchange Commission, 100 F Street, NE., Washington, DC 20549-1090.

All submissions should refer to File No. 4-526. This file number should be included on the subject line if e-mail is used. To help us process and review your statement more efficiently, please use only one method. The Commission staff will post all statements submitted on the Forum Web page at http://www.sec.gov./info/smallbus/sbforum.shtml. Statements also will be available for public inspection and copying in the Commission's Public Reference Room, 100 F Street, NE., Room 1580, Washington, DC 20549. All statements received will be posted without change; we do not edit personal identifying information from submissions. You should submit only information that you wish to make available publicly.

FOR FURTHER INFORMATION CONTACT: Anthony G. Barone, Special Counsel, at (202) 551-3260, at Office of Small Business Policy, Division of Corporation Finance, Securities and Exchange Commission, 100 F Street, NE., Washington, DC 20549-3628.

Dated: September 26, 2006.
Nancy M. Morris,
Secretary.

[FR Doc. E6-16331 Filed 10-3-06; 8:45 am]

BILLING CODE 8010-01-P